DEPARTMENT OF TRANSPORTATION

Federal Aviation Administration

[Summary Notice No. PE-2002-53]

Petitions for Exemption; Dispositions of Petitions Issued

AGENCY: Federal Aviation Administration (FAA), DOT.

ACTION: Notice of dispositions of prior petitions for exemption.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition.

FOR FURTHER INFORMATION CONTACT: Forest Rawls (202) 267-8033, Sandy Buchanan-Sumter (202) 267-7271, Vanessa Wilkins (202) 267-8029,or Denise Emrick (202) 267-5174, Office of Rulemaking (ARM-1), Federal Aviation Administration, 800 Independence Avenue, SW., Washington, DC 20591.

This notice is published pursuant to 14 CFR 11.85 and 11.91.

Issued in Washington, DC, on August 30, 2002.
Donald P. Byrne,
Assistant Chief Counsel for Regulations.

Dispositions of Petitions

Docket No.: FAA-2002-11574.

Petitioner: AirNet Systems, Inc.

Section of 14 CFR Affected: 14 CFR 135.143(c)(2).

Description of Relief Sought/Disposition: To permit AirNet Systems to operate certain aircraft under part 135 without a TSO-C112 (Mode S) transponder installed on those aircraft.

Grant/May 13, 2002, Exemption No. 6772B

Docket No.: FAA-2002-11567.

Petitioner: King Airelines, Inc.

Section of 14 CFR Affected: 14 CFR 135.143(c)(2).

Description of Relief Sought/Disposition: To permit King to operate certain aircraft under part 135 without a TSO-C112 (Mode S) transponder installed on those aircraft.

Grant/May 13, 2002, Exemption No.6093C

Docket No.: FAA-2001-9492.

Petitioner: Arctic Circle Air Service, Inc.

Section of 14 CFR Affected: 14 CFR 135.143(c)(2).

Description of Relief Sought/Disposition: To permit Arctic Circle to operate certain aircraft under part 135 without a TSO-C112 (Mode S) transponder installed on those aircraft.

Grant/May 13, 2002, Exemption No. 7523A.

Docket No.: 29119.

Petitioner: ERA Aviation, Inc.

Section of 14 CFR Affected: 14 CFR 121.643(a)(2) and (3).

Description of Relief Sought/Disposition: To permit ERA to operate its DHC-6 aircraft under the fuel supply requirements of 14 CFR part 135 in lieu of the fuel supply requirements of part 121 supplemental operations.

Denial/May 7, 2002, Exemption No. 7765.

Docket No.: FAA-2002-6459D.

Petitioner: Atlantic Aero, Inc.

Section of 14 CFR Affected: 14 CFR 135.143(c)(2).

Description of Relief Sought/Disposition: To permit Atlantic to operate certain aircraft under part 135 without a TSO-C112 (Mode S) transponder installed on those aircraft.

Grant/May 2, 2002, Exemption No. 6459D

Docket No.: FAA-2002-11291.

Petitioner: Northwest Airlines, Inc.

Section of 14 CFR Affected: 14 CFR 121.434(c)(1)(ii).

Description of Relief Sought/Disposition: To permit Northwest Airlines to substitute a qualified and authorized check airman in place of an FAA inspector to observe a qualifying pilot in command who is completing the initial or upgrade training specified in Section 121.424 during at least one flight leg that includes a takeoff and a landing, subject to certain conditions and limitations.

Grant/May 1, 2002, Exemption No. 6782B

Docket No.: FAA-2002-11748.

Petitioner: B2W Corporation.

Section of 14 CFR Affected: 14 CFR 135.143(c)(2).

Description of Relief Sought/Disposition: To permit B2W to operate certain aircraft under part 135 without a TSO-C112 (Mode S) transponder installed on those aircraft.

Grant/April 30, 2002, Exemption No.6083C

Docket No.: FAA-2002-11941.

Petitioner: Grand Canyon Airlines, Inc.

Section of 14 CFR Affected: 14 CFR 135.143(c)(2).

Description of Relief Sought/Disposition: To permit Grand Canyon Airlines to operate certain aircraft under part 135 without a TSO-C112 (Mode S) transponder installed on those aircraft.

Grant/April 30, 2002, Exemption No. 6101C

Docket No.: FAA-2002-11598.

Petitioner: Gulf and Ohio Airways.

Section of 14 CFR Affected: 14 CFR 135.143(c)(2).

Description of Relief Sought/Disposition: To permit Gulf and Ohio Airways to operate certain aircraft under part 135 without a TSO-C112 (Mode S) transponder installed on those aircraft.

Grant/April 30, 2002, Exemption No. 7208A

Docket No.: FAA-2001-11710.

Petitioner: Rotorcraft Leasing Company, L.L.C.

Section of 14 CFR Affected: 14 CFR 135.152(a).

Description of Relief Sought/Disposition: To permit Rotorcraft Leasing Company to operate a mixed fleet of Bell 212 and 412 helicopters without those helicopters being equipped with an approved digital flight data recorder.

Grant/April 16, 2002 Exemption No. 7320A

Docket No.: FAA-2001-8939.

Petitioner: Experimental Aircraft Association, Inc.

Section of 14 CFR Affected: 14 CFR 103.1(a) and (e).

Description of Relief Sought/Disposition: To permit individuals authorized by the EAA to give instruction in powered ultralight vehicles that have a maximum empty weight of not more than 496 pounds, have a maximum fuel capacity of not more than 10 U.S. gallons, are not capable of more than 75 knots calibrated airspeed at full power in level flight, and have a power-off stall speed that does not exceed 35 knots calibrated airspeed.

Grant/April 4, 2002, Exemption No. 3784K

Docket No.: FAA-2000-8425.

Petitioner: Aero Sports Connection, Inc.

Section of 14 CFR Affected: 14 CFR 131.1(a) and (e).

Description of Relief Sought/Disposition: To permit individuals authorized by the ASC to give instruction in powered ultralight vehicles that have a maximum empty weight of not more than 496 pounds, have a maximum fuel capacity of not more than 10 U.S. gallons, are not capable of more than 75 knots calibrated airspeed at full power in level flight, and have a power-off stall speed that does not exceed 35 knots calibrated airspeed.

Grant/April 4, 2002, Exemption No. 6080E

Docket No.: FAA-2001-9976.

Petitioner: United States Ultralight Association, Inc.

Section of 14 CFR Affected: 14 CFR 103.1(a) and (e).

Description of Relief Sought/Disposition: To permit individuals authorized by the USUA to give instruction in powered ultralight vehicles that have a maximum empty weight of not more than 496 pounds, have a maximum fuel capacity of not more than 10 U.S. gallons, are not capable of more than 75 knots calibrated airspeed at full power in level flight, and have a power-off stall speed that does not exceed 35 knots calibrated airspeed.

Grant/April 4, 2002, Exemption No. 4274J

Docket No.: FAA-2002-11946.

Petitioner: Frontier Airlines, Inc.

Section of 14 CFR Affected: 14 CFR 121.391(a)(4).

Description of Relief Sought/Disposition: To permit Frontier to use two flight attendants aboard airplanes configured with more than 100 seats when (1) a third flight attendant becomes unable to perform his or her duties and a replacement flight attendant cannot be made available without lengthy delay and (2) all seats in excess of 100 are blocked from use.

Denial/April 3, 2002, Exemption No. 7749

Docket No.: FAA-2002-10716.

Petitioner: United States Ultralight Association, Inc.

Section of 14 CFR Affected: 14 CFR 91.319(a)(1) and (2).

Description of Relief Sought/Disposition: To permit United States Ultralight Association members who own aircraft with an experimental certificate to be compensated for the use of the aircraft in transition training conducted by authorized flight instructors.

Grant/March 29, 2002, Exemption No. 7750

Docket No.: 30059.

Petitioner: The Aviation Department of The Saudi Arabian Oil Company.

Section of 14 CFR Affected: 14 CFR 61.51(f).

Description of Relief Sought/Disposition: To permit Saudi Aramco's commercial helicopter pilots flying as second pilots, pursuant to company-mandated flight safety policies aboard Bell 212, 214ST, or 412 helicopters operated by Saudi Aramco, to count such time as second-in-command time toward fulfillment of the flight time requirements of 14 CFR 61.157(h)(3)(ii)(B) or § 61.61(a), in order to qualify to take the airline transport pilot practical tests.

Grant/March 26, 2002, Exemption No. 7747

Docket No.: FAA-2002-11573.

Petitioner: Avcenter, Inc.

Section of 14 CFR Affected: 14 CFR 135.143(c)(2).

Description of Relief Sought/Disposition: To permit Avcenter to operate certain aircraft under part 135 without a TSO-C112 (Mode S) transponder installed on those aircraft.

Grant/April 29, 2002, Exemption No. 7204A

Docket No.: FAA-2002-11840.

Petitioner: Davis Aerospace Technical High School.

Section of 14 CFR Affected: 14 CFR 135.251, 135.255, and 135.353, and appendices I and J to part 121.

Description of Relief Sought/Disposition: To permit Davis Aerospace Technical High School and Black Pilots of America to conduct local sightseeing flights at the Detroit City Airport, for its annual open house on May 19, 2002, for compensation or hire, without complying with certain anti-drug and alcohol misuse prevention requirements of part 135.

Grant/May 16, 2002, Exemption No. 7768

Docket No.: FAA-2002-11555.

Petitioner: United Parcel Service.

Section of 14 CFR Affected: 14 CFR 121.433(c)(1)(iii), 121.440(a), 121.441(a)(1) and (b)(1), and appendix F to part 121.

Description of Relief Sought/Disposition: To permit United Parcel Service to combine recurrent flight and ground training and proficiency checks for UPS's pilots in command, seconds in command, and flight engineers in a single annual training and proficiency evaluation program.

Grant/May 15, 2002, Exemption No. 6434C

Docket No.: FAA-2002-11758.

Petitioner: U.S. Helicopters, Inc.

Section of 14 CFR Affected: 14 CFR 135.143(c)(2).

Description of Relief Sought/Disposition: To permit U.S. Helicopters to operate certain aircraft under part 135 without a TSO-C112 (Mode S) transponder installed on those aircraft.

Grant/May 20, 2002, Exemption No.6452C

Docket No.: FAA-2002-11718.

Petitioner: Captain David Carpenter.

Section of 14 CFR Affected: 14 CFR 121.383(c).

Description of Relief Sought/Disposition: To permit Captain David Carpenter to act as a pilot in operations conducted under part 121 after reaching your 60th birthday.

Denial/May 16, 2002, Exemption No. 7774

Docket No.: FAA-2002-11768.

Petitioner: Twin Otter International, Ltd.

Section of 14 CFR Affected: 14 CFR 121.345(c)(2) and 135.143 (c)(2).

Description of Relief Sought/Disposition: To permit Twin Otter International Ltd to operate certain aircraft under part 121 and part 135 without a TSO-C112 (Mode S) transponder installed on those aircraft.

Grant/May 20, 2002, Exemption No. 6111D

Docket No.: FAA-2002-11959.

Petitioner: American Air Network, Inc.

Section of 14 CFR Affected: 14 CFR 135.143(c)(2).

Description of Relief Sought/Disposition: To permit American Air Network to operate certain aircraft under part 135 without a TSO-C112 (Mode S) transponder installed on those aircraft.

Grant/May 20, 2002, Exemption No. 7299A

Docket No.: FAA-2002-11932.

Petitioner: Helicopter Service, Inc.

Section of 14 CFR Affected: 14 CFR 135.143(c)(2).

Description of Relief Sought/Disposition: To permit Helicopter Services Inc to operated certain aircraft under part 135 without a TSO-C112 (Mode S) transponder installed on those aircraft.

Grant/May 20, 2002, Exemption No. 6109C

Docket No.: 27502.

Petitioner: Bemidji.

Section of 14 CFR Affected: 14 CFR 135.265(d).

Description of Relief Sought/Disposition: To permit Bemidji to provide its pilots with 24 consecutive hours of rest within any consecutive 168 hours instead of within any 7 consecutive days.

Denial/May 15, 2002, Exemption No. 7767

Docket No.: FAA-2002-11936.

Petitioner: Airway Flight Services.

Section of 14 CFR Affected: 14 CFR 135.143(c)(2).

Description of Relief Sought/Disposition: To permit Airway Flight Services to operate certain aircraft under part 135 without a TSO-C112 (Mode S) transponder installed on those aircraft.

Grant/May 20, 2002, Exemption No. 7287A

Docket No.: FAA-2002-12117.

Petitioner: Alaska Air Taxi.

Section of 14 CFR Affected: 14 CFR 135.143(c)(2).

Description of Relief Sought/Disposition: To permit Alaska Air Taxi to operate certain aircraft under part 135 without a TSO-C112 (Mode S) transponder installed on those aircraft.

Grant/May 20, 2002, Exemption No. 7247A

Docket No.: FAA-2002-12039.

Petitioner: Eastway Aviation Charter Management.

Section of 14 CFR Affected: 14 CFR 135.167.

Description of Relief Sought/Disposition: To permit Eastway Aviation Charter Management to operate between 50 and 162 nautical miles from shore without life rafts or pyrotechnic signaling devices provided the minimum enroute cruising altitude is FL250 or higher

Denial/May 20, 2002, Exemption No. 7773

Docket No.: FAA-2002-11995.

Petitioner: Thunder Air Charter, Inc.

Section of 14 CFR Affected: 14 CFR 135.143(c)(2).

Description of Relief Sought/Disposition: To permit Thunder Air to operate certain aircraft under part 135 without a TSO-C112 (Mode S) transponder installed on those aircraft.

Grant/May 20, 2002, Exemption No. 7315A

Docket No.: FAA-2002-12163.

Petitioner: John A. Porter.

Section of 14 CFR Affected: 14 CFR 91.109(a) and (b)(3).

Description of Relief Sought/Disposition: To permit John A Porter to conduct certain flight instruction and simulated instrument flights to meet recent instrument experience requirements, in certain Beechcraft airplanes equipped with a functioning throwover control wheel in place of functioning dual controls.

Grant/May 16, 2002, Exemption No. 6521C

Docket No.: FAA-2002-11759.

Petitioner: Aero Charter, Inc.

Section of 14 CFR Affected: 14 CFR 135.143(c)(2).

Description of Relief Sought/Disposition: To permit Aero Charter to operate certain aircraft under part 135 without a TSO-C112 (Mode S) transponder installed on those aircraft.

Grant/May 20, 2002, Exemption No. 7250A

Docket No.: FAA-2002-12152.

Petitioner: Ameriflight, Inc.

Section of 14 CFR Affected: 14 CFR 135.143(c)(2).

Description of Relief Sought/Disposition: To permit Ameriflight to operate certain aircraft under part 135 without a TSO-C112 (Mode S) transponder installed on those aircraft.

Grant/May 20, 2002, Exemption No. 6830B

Docket No.: FAA-2002-11841.

Petitioner: Warbelows Air Ventures, Inc.

Section of 14 CFR Affected: 14 CFR 135.143(c)(2).

Description of Relief Sought/Disposition: To permit Warbelows to operate certain aircraft under part 135 without a TSO-C112 (Mode S) transponder installed on those aircraft.

Grant/May 20, 2002, Exemption No. 7344A

Docket No.: FAA-2002-11715.

Petitioner: Chevron U.S.A. Production Company.

Section of 14 CFR Affected: 14 CFR 135.143(c)(2).

Description of Relief Sought/Disposition: To permit Chevron to operate certain aircraft under part 135 without a TSO-C112 (Mode S) transponder installed on those aircraft.

Grant/May 20, 2002, Exemption No. 5948D

Docket No.: FAA-2002-11703.

Petitioner: Ketchum Air Service, Inc.

Section of 14 CFR Affected: 14 CFR 135.143(c)(2).

Description of Relief Sought/Disposition: To permit Ketchum to operate certain aircraft under part 135 without a TSO-C112 (Mode S) transponder installed on those aircraft.

Grant/May 20, 2002, Exemption No. 7300A

Docket No.: FAA-2002-11930.

Petitioner: High Adventure Air Charter.

Section of 14 CFR Affected: 14 CFR 135.143(c)(2).

Description of Relief Sought/Disposition: To permit High Adventure to operate certain aircraft under part 135 without a TSO-C112 (Mode S) transponder installed on those aircraft.

Grant/May 20, 2002, Exemption No. 7288A

Docket No.: FAA-2000-8063.

Petitioner: Eagle Canyon Airlines, Inc., dba Scenic Airlines.

Section of 14 CFR Affected: 14 CFR 121.345(c)(2).

Description of Relief Sought/Disposition: To permit Scenic to operate certain aircraft under part 121 without a TSO-C112 (Mode S) transponder installed on those aircraft.

Grant/May 23, 2002, Exemption No. 6839B

Docket No.: FAA-2002-12354.

Petitioner: Keystone Helicopter Corporation.

Section of 14 CFR Affected: 14 CFR 135.143(c)(2).

Description of Relief Sought/Disposition: To permit Keystone to operate certain aircraft under part 135 without a TSO-C112 (Mode S) transponder installed on those aircraft.

Grant/May 29, 2002, Exemption No. 7783

Docket No.: FAA-2002-12189.

Petitioner: Department of Air Force.

Section of 14 CFR Affected: 14 CFR 91.215(b) and (c).

Description of Relief Sought/Disposition: To permit the U.S. Air Force to conduct certain military training flight operations in designated airspace above 10,000 feet mean sea level without being required to operate the aircraft transponders, subject to certain conditions and limitations.

Grant/May 22, 2002, Exemption No. 4633I

Docket No.: FAA-2002-12104.

Petitioner: Lake and Peninsula Airlines, Inc.

Section of 14 CFR Affected: 14 CFR 135.143(c)(2).

Description of Relief Sought/Disposition: To permit Lake and Peninsula Airlines Inc. to operate certain aircraft under part 135 without a TSO-C112 (Mode S) transponder installed on those aircraft.

Grant/May 23, 2002, Exemption No. 7357A

Docket No.: FAA-2002-11928.

Petitioner: Mid-Atlantic Freight, Inc.

Section of 14 CFR Affected: 14 CFR 135.143(c)(2).

Description of Relief Sought/Disposition: To permit Mid-Atlantic Freight Inc. to operate certain aircraft under part 135 without a TSO-C112 (Mode S) transponder installed on those aircraft.

Grant/May 23, 2002, Exemption No. 7291A

Docket No.: FAA-2001-10229.

Petitioner: Air Wisconsin Airlines Corporation.

Section of 14 CFR Affected: 14 CFR 121.434(c)(1)(ii).

Description of Relief Sought/Disposition: To permit Air Wisconsin to substitute a qualified and authorized check airman in place of an FAA inspector to observe a qualifying pilot in command (PIC) while that PIC is performing prescribed duties during at least one flight leg that includes a takeoff and a landing when completing initial or upgrade training as specified in § 121.424.

Grant/May 22, 2002, Exemption No. 7778

Docket No.: FAA-2002-12133.

Petitioner: SkyWest Airlines.

Section of 14 CFR Affected: 14 CFR 121.463(c).

Description of Relief Sought/Disposition: To permit SkyWest to allow its dispatchers to accomplish the required 5 hours of dispatcher operating familiarization time in the Canadair Regional Jet CL-65 aircraft.

Grant/May 28, 2002, Exemption No. 7780

Docket No.: FAA-2002-12108.

Petitioner: M and R Helicopters, L.L.C.

Section of 14 CFR Affected: 14 CFR 135.143(c)(2).

Description of Relief Sought/Disposition: To permit M and R Helicopters to operate certain aircraft under part 135 without a TSO-C112 (Mode S) transponder installed on those aircraft.

Grant/May 23, 2002, Exemption No. 7777

Docket No.: FAA-2000-8527.

Petitioner: SIMCOM Training Center.

Section of 14 CFR Affected: 14 CFR 91.9(a) and 91.531(a)(1) and (2).

Description of Relief Sought/Disposition: To permit SIMCOM and operators of Cessna Citation model 550, S550, 552, and 560 airplanes to operate those airplanes without a pilot who is designated as second in command.

Grant/May 28, 2002, Exemption No. 7487C

Docket No.: FAA-2002-11888.

Petitioner: ComAir, Inc.

Section of 14 CFR Affected: 14 CFR 121.463(c).

Description of Relief Sought/Disposition: To permit ComAir to allow its dispatchers to accomplish the required 5 hours of dispatcher operating familiarization time in the Canadair Regional Jet CL-65 aircraft.

Grant/May 28, 2002, Exemption No. 7781

Docket No.: FAA-2002-11757.

Petitioner: Dale Aviation, Inc.

Section of 14 CFR Affected: 14 CFR 135.143(c).

Description of Relief Sought/Disposition: To permit Dale Aviation to operate certain aircraft under part 135 without a TSO-C112 (Mode S) transponder installed on those aircraft.

Grant/May 23, 2002, Exemption No. 7776

Docket No.: FAA-2001-9687.

Petitioner: Pacific Helicopter Tours, Inc.

Section of 14 CFR Affected: 14 CFR 135.152(a).

Description of Relief Sought/Disposition: To permit Pacific Helicopter Tours to operate its two Bell 212 helicopters (Serial Nos. 3095, and 30957) and four Sikorsky S-61N helicopters (Serial Nos. 61364, 61488, 61771, and 61821) without those helicopters being equipped with an approved digital flight data recorder.

Grant/May 31, 2002, Exemption No. 7257C

Docket No.: FAA-2002-12412.

Petitioner: Air Transport Training International, Inc.

Section of 14 CFR Affected: 14 CFR 141.27(b)(2).

Description of Relief Sought/Disposition: To permit Air Transport to reapply for a provisional pilot school certificate less than 180 days after the May 31, 2002, expiration date of its certificate, and without having trained and recommended 10 students for pilot certification and ratings.

Grant/May 31, 2002, Exemption No. 7785

Docket No.: FAA-2002-12168.

Petitioner: West Bend Air, Inc.

Section of 14 CFR Affected: 14 CFR 135.251, 135.255, 135.353, and appendices I and J to part 121.

Description of Relief Sought/Disposition: To permit West Bend to conduct local sightseeing flights without complying with certain anti-drug and alcohol misuse prevention requirements of part 135.

Denial/May 31, 2002, Exemption No. 7786

Docket No.: FAA-2002-12404.

Petitioner: Vintage Aircraft Group, Inc.

Section of 14 CFR Affected: 14 CFR 135.251, 135.255, and 135.353, and appendices I and J to part 121.

Description of Relief Sought/Disposition: To permit Vintage to conduct local sightseeing flights at Pine Hill Airport, for it's fly-in breakfast on June 2, 2002, Aviation Day Open House on August 10 and 11, 2002, and a second fly-in breakfast on September 2, 2002, for compensation or hire, without complying with certain anti-drug and alcohol misuse prevention requirements of part 135.

Grant/May 30, 2002, Exemption No. 7784

[FR Doc. 02-22628 Filed 9-4-02; 8:45 am]

BILLING CODE 4910-13-P